DEPARTMENT OF COMMERCE

National Oceanic and Atmospheric Administration

[I.D. 122705A]

Marine Mammals; File Nos. 781-1824, 965-1821, 532-1822, 540-1811, 774-1714, 782-1719, 731-1774

AGENCY: National Marine Fisheries Service (NMFS), National Oceanic and Atmospheric Administration (NOAA), Commerce.

ACTION: Notice; receipt of applications and amendment requests; request for coments.

SUMMARY: Notice is hereby given that the following seven entities have applied in due form for permits and permit amendments to conduct scientific research on marine mammal species and import marine mammal part specimens for scientific research purposes:

Northwest Fisheries Science Center (NWFSC, Dr. Linda Jones, Principle Investigator), 2725 Montlake Blvd., East, Seattle, Washington 98112-2097 (File No. 781-1824);

Dr. David E. Bain, Friday Harbor Laboratories, University of Washington, 620 University Road, Friday Harbor, Washington 98250 (File No. 965-1821);

Center for Whale Research (CWR, Mr. Kenneth C. Balcomb III, Principle Investigator), 355 Smuggler's Cove Road, Friday Harbor, Washington 98250 (File No. 532-1822);

Mr. John Calambokidis, Cascadia Research, Waterstreet Bldg., 218 1/2 W. 4th Avenue, Olympia, Washington 98501 (File No. 540-1811);

Southwest Fisheries Science Center (SWFSC, Dr. Stephen B. Reilly, Principle Investigator), 8604 La Jolla Shores Drive, La Jolla, California 92037 (Permit No. 774-1714);

National Marine Mammal Laboratory, Alaska Fisheries Science Center, (NMML, Dr. John L. Bengtsen, Principle Investigator), 7600 Sand Point Way, NE., Seattle, Washington 98115-6349 (Permit No. 782-1719); and

Dr. Robin W. Baird, Cascadia Research, Waterstreet Bldg., 218 1/2 W. 4th Avenue, Olympia, Washington 98501 (Permit No. 731-1774).

DATES: Written, telefaxed, or e-mail comments must be received on or before February 6, 2006.

ADDRESSES: The application and related documents are available for review upon written request, online at http://www.nmfs.noaa.gov/pr/permits/review.htm, or by appointment in the following offices:

Permits, Conservation and Education Division, Office of Protected Resources, NMFS, 1315 East-West Highway, Room 13705, Silver Spring, MD 20910; phone (301) 713-2289; fax (301) 427-2521;

Northwest Region, NMFS, 7600 Sand Point Way NE, BIN C15700, Bldg. 1, Seattle, WA 98115-0070; phone (206) 526-6150; fax (206) 526-6426;

Southwest Region, NMFS, 501 West Ocean Blvd., Suite 4200, Long Beach, CA 90802-4213; phone (562) 980-4001; fax (562) 980-4018; and

Alaska Region, NMFS, P.O. Box 21668, Juneau, AK 99802-1668; phone (907) 586-7221; fax (907) 586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: either File No. 781-1824, or 965-1821, or 532-1822, or 540-1811, or Permit Nos. 774-1714, or 782-1719, or 731-1774.

FOR FURTHER INFORMATION CONTACT: Shane Guan or Kelsey Abbott, (301) 713-2289.

SUPPLEMENTARY INFORMATION: The subject permits and amendment requests are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No. 781-1824: The NWFSC proposes to conduct a five-year study to determine the abundance, distribution, movement patterns, habitat use, contaminant levels, prey choice, behavior, energetics, and stock structure of cetacean species in the eastern North Pacific off the coast of Washington, Oregon, and California. The applicant proposes to take 20 cetacean species, including endangered blue whales (Balaenoptera musculus), fin whales (Balaenoptera physalus), humpback whales (Megaptera novaeangliae), sperm whales (Physeter macrocephalus), and the distinct population segment (DPS) of the Southern Resident killer whale (Orcinus orca). These studies would be carried out through vessel surveys, photo-identification from large and small vessels, focal follows to collect behavioral data, photogrammetry, passive acoustic monitoring, biological sample collection, satellite/radio and data log/time-depth tagging and tracking, and health assessments. The applicant proposes to utilize video photogrammetry from an unmanned tethered airship to document cetacean behavior and assess body condition. The airship would be tethered to a small boat (20-40 feet) and would be flown at an altitude of 250-400 feet. Passive acoustic data may be collected using a towed hydrophone array and/or sonobuoys. On an opportunistic basis, prey remains, sloughed skin, or feces would be collected from the water column and biopsy samples would be collected from both free-ranging and stranded cetaceans. Biopsy samples would undergo genetic, contaminant, stable isotope, and fatty acid analyses. To track the movements and diving behavior of cetaceans, both data logging tags and satellite or radio tags would be attached to the animals. These tags may use either suction cup or implantable attachments. To assess the health of the animals, breath samples would be collected by placing a funnel over the blowhole of a surfacing animal and manually opening the attached vacuum cylinder as the animal exhales. To further assess the health of cetaceans, the applicant proposes using a 0.5MHz ultrasound transducer to determine the blubber thickness of Alaska resident killer whales, humpback whales, and gray whales (Eschrichtius robustus). The proposed research would also include the salvage and import/export of cetacean parts, specimens, and biological samples. All proposed activities would target adult and juvenile males and females as well as females accompanying calves. No calves would be taken. The applicant requests a total of 215 annual takes of Southern Resident killer whales (SRKW) for close approach for vessel and aerial surveys, photo-id, photogrammetry, focal follows, and collection of prey and fecal material. Additionally, NWFSC proposes to takes 5 breath samples and 25 biopsy samples from SRKW each year. Using only suction cup attachment, the applicant proposes to attach 10 data logging tags to SRKW annually. In addition, the applicant requests authorization to engage in the worldwide import, export, re-export and/or salvage of 30 biological samples, specimens, or parts from SRKW annually. Each year, up to 300 Southern Resident killer whales may be incidentally harassed by the above research activities.

File No. 965-1821: Dr. David Bain requests a five-year permit to study killer whales, including the Southern Resident DPS. Research would focus on the inland waters of Washington, with comparative data collected from central California to central Alaska. The study is designed to examine killer whale distribution and movement patterns; diet and energetic requirements; reproduction and mortality patterns; health; social structure; and the effects of anthropogenic disturbances, including noise, on the whales. The applicant proposes to utilize a variety of platforms including boats, unmanned vessels, and blimps. Unmanned vessels would be used to carry instrumentation as an alternative to the use of a small manned vessel. Standard manned blimps (50-60 meters or 164-197 feet in length) would be operated at 1,000-1,500 feet. Smaller unmanned blimps (10-15 meters or 33-49 feet in length) would be operated via remote control at an altitude no higher than 400 feet and potentially 200-250 feet. Video and photographs would be collected from all survey platforms for use in photo-identification and photogrammetry. The applicant proposes to conduct health assessments of each Southern Resident once per year. These health assessments would consist of underwater photography, respiratory samples, infrared imaging, and acoustic recordings of blows. Underwater video would be taken to assess body condition, including possible pregnancies, injuries, and body girth. To collect baseline information about upper respiratory tract microbes, a researcher would sweep a culture plate attached to a lightweight telescoping pole through the exhaled air of a whale surfacing near the research vessel. The acoustic properties of whale blows would be recorded using a directional microphone and parabolic reflector. A thermal imaging camera would be utilized to examine the spatial characteristics of blows as well as any bodily wounds. A laser range finder would be employed to measure the distance to a whale for calibrating images and recordings. To study killer whale diet, samples of prey and feces would be collected for analysis. A Splashcam camera towed in the upper 10 meters (33 feet) of the water column would be employed on some occasions to monitor potential prey. Multi-beam sonar images operated at a high frequency level of 200 kHz would be used to determine the relative density of potential prey in the water column. Both tetrahedral and linear towed arrays may be used to collect passive acoustic data. Focal follows of individual animals would be conducted to examine behavior, social structure, and energetics. The applicant requests 50 thirty-minute focal follow samples annually, focusing on one age/sex class each year. Adult males, adult females, and juveniles would be sampled in this manner. Annually, 300 SRKW and 320 killer whales of other stocks would be harassed during the above research activities. The applicant has also requested takes of other cetacean and pinniped species that may be incidentally harassed during the killer whale research. These species include humpback whales, fin whales, harbor seals (Phoca vitulina), northern fur seals (Callorhinus ursinus), and Steller sea lions (Eumetopias jubatus).

File No. 532-1822: The Center for Whale Research (CWR, Ken Balcomb, Principal Investigator) requests a five-year permit to study Southern Resident killer whales throughout their range, from Monterey Bay, California to the Queen Charlotte Islands, Canada. The goal of the research would be to continue conducting annual photo-identification studies on this population in order to monitor population size and demographics, movements and distribution, social structure, and individual health and body condition. To achieve these goals, CWR requests 500 annual takes of SRKW by close approach for photo-identification and 1,000 takes annually by close approach for vessel and aerial surveys. During vessel surveys, the applicant would collect passive acoustic information. The applicant also requests authority to collect photo-identification data from other killer whale stocks that are encountered opportunistically, including the eastern North Pacific Offshore stock, eastern North Pacific Northern Resident stock, and the eastern North Pacific Transient stock. Takes would occur by close approach by vessel survey for photo-identification, and by incidental harassment by aerial and vessel surveys. In addition, the researcher would like to collect non-marine mammal prey remains after the killer whales have left an area.

File No. 540-1811: John Calambokidis (Cascadia Research) requests a five-year permit to study marine mammals in the North Pacific Ocean including the waters off California, Oregon, and Washington. The applicant requests the authority to: (1) Use photo-identification activities to determine the abundance, movements, and population structure of cetaceans; (2) collect skin biopsies to determine sex and relatedness, and to evaluate stock structure of cetaceans; (3) conduct suction cup tagging activities to examine the diving behavior, feeding, movements, and vocal behavior of cetacean species; (4) conduct aerial, vessel, and shore-based surveys to examine distribution, abundance, habitat, and feeding behavior; and (5) to recover dead harbor seals for contaminant analysis. To conduct this research, the applicant requests takes of five species of pinnipeds and 27 cetacean species, including humpback whales, blue whales, fin whales, and gray whales. The principal research activities of this study would be to survey, photo-id, and biopsy sample gray, humpback, and blue whales in the Pacific Northwest; to tag humpback, blue, and fin whales off the coast of California; to perform aerial surveys for harbor porpoises, humpback, and blue whales; and to perform shore-based censuses of harbor seals in Washington. The applicant plans to tag and biopsy all age and sex classes except calves less than one year of age and females accompanying such calves. Tagging packages would contain a combination of the following instruments and devices: hydrophone and recording system for underwater vocalizations, pressure sensor to record water depth, sensor to monitor and record water temperature, 3-axis accelerometers to measure pitch and roll of animal, 3-axis solid state magnetometers to measure heading, VHF tag to provide local positioning information, satellite tag to record long-range movements, and underwater video camera to record behavior and prey. The applicant also requests 150 annual takes of Southern Resident killer whales by close approach for photo-identification and 150 annual SRKW takes by close approach for aerial and vessel surveys.

Amendment Requests

Permit No. 774-1714-04: The SWFSC proposes to amend their existing scientific research permit (Permit No. 774-1714, issued on June 30, 2004 and most recently amended on September 16, 2005) to allow takes of the recently ESA-listed Southern Resident killer whale DPS. The purpose of the research is to document the range of the SRKW within 300 nm of the California, Oregon, and Washington outer coasts, which is outside their relatively well studied distribution in inland and coastal waters. The research would be carried out opportunistically during SWFSC's line-transect surveys designed to provide data for Stock Assessment Reports on abundance and stock identity of all cetacean species in these areas. Photo-identification activities would be conducted from small boats at a distance of 10-20 meters (approximately 33-65 feet) from the animals. Biopsy sampling would only be done at the request of the NWFSC. The SWFSC is requesting to amend Permit No. 774-1714-03 to allow takes of 20 SRKW and 180 non-SRKW for photo-identification, and 10 SRKW and 130 non-SRKW for biopsy sampling annually. Each year, up to 20 SRKW may be incidentally harassed by the above research activities. The current permit allows the SWFSC to take 500 killer whales for biopsy and 500 for photo-identification, with no distinction between SRKW and non-SRKW. The amended permit, if issued, would be valid until the permit expires on June 30, 2009.

Permit No. 782-1719-03: Permit No. 782-1719-00, issued to NMML on June 30, 2004 (69 FR 44514) and most recently amended on September 16, 2005 authorizes the Permit Holder to take all species of cetaceans under NMFS jurisdiction during stock assessment activities throughout U.S. territorial waters and the high seas of the North Pacific Ocean, Southern Ocean, Arctic Ocean, and the territorial waters of Mexico (Gulf of California only), Canada, Russia, Japan, and the Philippines. The permit authorizes close approach during Level B harassment (aerial surveys, vessel-based surveys, observations, and photo-identification) and Level A harassment (biopsy sampling and attachment of scientific instruments) for all age and sex classes. The Holder now requests authority to opportunistically sample SRKW when encountered during stock assessment surveys. The Holder asks to biopsy sample 10 SRKW (excluding calves and accompanying females) per year. These samples will undergo fatty acid, stable isotope, and contaminant analyses to determine the diet and nutrition of the animals. In addition, NMML requests 100 takes of SRKW by close approach for photo-identification and 1,000 annual takes by vessel and aerial surveys. The amended permit, if issued, would be valid until the permit expires on June 30, 2009.

Permit No. 731-1774-01: Permit No. 731-1774, issued to Robin Baird, Ph.D. (Cascadia Research) on September 16, 2005, authorizes takes by close approach, including vessel approaches, aerial over-flights, and suction cup tagging of cetacean species in all U.S. and international waters in the Pacific, including Alaska, Washington, Oregon, California, Hawaii, and other U.S. territories. The objectives of the research are to assess cetacean populations and to study diving and night-time behavior, social organization, and inter-specific interactions. The Permit Holder now requests authority to suction cup tag 15 Southern Resident killer whales per year to assess inter-annual variability in diving patterns. Males and females of all ages would be tagged, with the exception of calves under six months of age and females attending such calves. Furthermore, the Holder requests 100 takes of all age and sex classes of SRKW annually by harassment during close approach for vessel and aerial surveys, photo-identification, behavioral observations, video and acoustic recordings, and incidental harassment. The proposed research would primarily occur in the waters of Washington, but may also occur in the waters of California and Oregon. The current permit authorizes the Holder to import/export five parts/samples from killer whales. The Holder requests authority to import/export one part or sample from SRKW and four from other killer whales annually. The amended permit, if issued, would be valid until the permit expires on August 31, 2010.

Concurrent with the publication of this notice in the Federal Register, NMFS is forwarding copies of this application to the Marine Mammal Commission and its Committee of Scientific Advisors.

Dated: December 30, 2005.
Shane Guan,
Acting Chief, Permits, Conservation and Education Division, Office of Protected Resources, National Marine Fisheries Service.

[FR Doc. E6-18 Filed 1-5-06; 8:45 am]

BILLING CODE 3510-22-S